DEPARTMENT OF HOMELAND SECURITY

Federal Emergency Management Agency

44 CFR Part 67

[Docket No. FEMA-B-7726]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Jefferson County, Arkansas, and Incorporated Areas
Harding Drain | Approx. 400′ downstream of US Highway 65 | +205 | +208 | City of Pine Bluff.
| At confluence of Outlet Canal | +205 | +208
Outlet Canal | Approx. 500′ upstream of the confluence of Outlet Canal Tributary A | +203 | +208 | City of Pine Bluff.
| At confluence with Harding Drain | +205 | +208
Pitts Drain | At confluence with Outlet Canal | +204 | +208 | City of Pine Bluff.
| At S Ohio Street | +208 | +208
* National Geodetic Vertical Datum.
+ North American Vertical Datum.
# Depth in feet above ground.
ADDRESSES
City of Pine Bluff
Maps are available for inspection at 200 East 8th Avenue, Pine Bluff, AR 71601.
Send comments to The Honorable Carl Redus, Jr., Mayor, 200 East 8th Avenue, Suite 201, Pine Bluff, AR 71601.
Sebastian County, Arkansas, and Incorporated Areas
Adamson Creek | Intersection with S Coker St | +492 | +494 | City of Greenwood, Sebastian County (Unincorporated Areas).
| Approximately 2000 feet upstream of Highway 71 | None | +533
Heartsill Creek | Intersection with W Denver Street | +506 | +510 | City of Greenwood, Sebastian County (Unincorporated Areas).
| Approximately 180 feet downstream of Hester Cut Rd. Intersection | None | +575
Tributary 1 | Confluence with Heartsill Creek | None | +525 | City of Greenwood.
| Approximately 700 feet upstream of Meadow Bridge Dr. intersection | None | +547
Hester Creek | Approximately 280 feet upstream of W Center St. Intersection | +505 | +510 | City of Greenwood, Sebastian County (Unincorporated Areas).
| Approximately 600 feet upstream of Hester Cut Rd | None | +547
Vache Grasse Creek | Approximately 5200 feet downstream of AR 10 | None | +484 | City of Greenwood, Sebastian County (Unincorporated Areas).
| Approximately 1800 feet upstream of Steward Ct Intersection | None | +541
* National Geodetic Vertical Datum.
+ North American Vertical Datum.
# Depth in feet above ground.
ADDRESSES
City of Greenwood
Maps are available for inspection at 35 South 6th St., Fort Smith, AR 72901.
Send comments to The Honorable Kenneth Edward Jr., Mayor, P.O. Box 1450, Greenwood, AR 72936.
Sebastian County (Unincorporated Areas)
Maps are available for inspection at 35 South 6th Street, Fort Smith, AR 72901.
Send comments to The Honorable David Hudson, County Judge, 35 South 6th, Ste. 106, Fort Smith, AR 72901.
Breckinridge County, Kentucky, and Incorporated Areas
Ohio River | Hancock County Boundary (Approximately 6,900 feet downstream of Confluence with Clover Creek) | None | +407 | City of Cloverport, Breckinridge County (Unincorporated Areas).
| Meade County Boundary (Approximately 7,400 feet upstream of Confluence with Ohio River Tributary 1) | None | +418
* National Geodetic Vertical Datum.
+ North American Vertical Datum.
# Depth in feet above ground.
ADDRESSES
City of Cloverport
Maps are available for inspection at 212 West Main Street, Cloverport, KY 40111.
Send comments to The Honorable Dan Allen, Mayor, City of Cloverport, 212 West Main Street, Cloverport, KY 40111.
Breckinridge County (Unincorporated Areas)
Maps are available for inspection at 111 West Second Street, Hardinsburg, KY 40143.
Send comments to The Honorable Joseph Powers, Jr., Breckinridge County Judge Executive, 111 West Second Street, Hardinsburg, KY 40143.
Christian County, Kentucky, and Incorporated Areas
Little River | Approximately 250 feet upstream of Huffman Mill Road | None | +495 | Christian County (Unincorporated Areas).
| At confluence with North Fork Little River and South Fork Little River | None | +505
Montgomery Branch | Approximately 1,000 feet upstream of Louisville and Nashville Railroad | None | +559 | City of Hopkinsville, Pembroke, Christian County (Unincorporated Areas).
| Approximately 1,500 feet downstream of Frank Yost Lane | None | +592
North Fork Little River | At confluence with Little River and South Fork Little River | None | +505 | City of Hopkinsville, Christian County (Unincorporated Areas).
| Approximately 1,000 feet upstream of Edward T. Breathitt Parkway | None | +535
Rock Bridge Branch | At confluence with South Fork Little River | None | +507 | City of Hopkinsville, Christian County (Unincorporated Areas).
| Approximately 3,600 feet upstream of Bradshaw Road | None | +572
Sanderson Creek | At confluence with North Fork Little River | +523 | +525 | City of Hopkinsville, Christian County (Unincorporated Areas).
| Approximately 2,200 feet upstream of KY-1682 | None | +553
Sinkhole 1 | Flooding Due to Sinkhole | None | +552 | City of Oak Grove.
Sinkhole 10 | Flooding Due to Sinkhole | None | +548 | City of Oak Grove.
Sinkhole 10A | Flooding Due to Sinkhole | None | +545 | City of Hopkinsville.
Sinkhole 11 | Flooding Due to Sinkhole | None | +548 | City of Oak Grove.
Sinkhole 11A | Flooding Due to Sinkhole | None | +548 | City of Hopkinsville.
Sinkhole 12 | Flooding Due to Sinkhole | None | +545 | City of Oak Grove.
| Flooding Due to Sinkhole | None | +545
Sinkhole 12A | Flooding Due to Sinkhole | None | +540 | City of Hopkinsville.
Sinkhole 13 | Flooding Due to Sinkhole | None | +544 | City of Oak Grove.
Sinkhole 13A | Flooding Due to Sinkhole | None | +535 | City of Hopkinsville.
Sinkhole 14 | Flooding Due to Sinkhole | None | +546 | City of Oak Grove.
Sinkhole 14A | Flooding Due to Sinkhole | None | +539 | City of Hopkinsville.
Sinkhole 15 | Flooding Due to Sinkhole | None | +546 | City of Oak Grove.
Sinkhole 15A | Flooding Due to Sinkhole | None | +544 | City of Hopkinsville.
Sinkhole 16 | Flooding Due to Sinkhole | None | +544 | City of Oak Grove.
Sinkhole 16A | Flooding Due to Sinkhole | None | +555 | City of Hopkinsville.
Sinkhole 17 | Flooding Due to Sinkhole | None | +542 | City of Oak Grove.
Sinkhole 18 | Flooding Due to Sinkhole | None | +540 | City of Oak Grove.
Sinkhole 18A | Flooding Due to Sinkhole | None | +523 | City of Hopkinsville.
Sinkhole 19 | Flooding Due to Sinkhole | None | +535 | City of Oak Grove.
Sinkhole 19A | Flooding Due to Sinkhole | None | +519 | City of Hopkinsville.
Sinkhole 1A | Flooding Due to Sinkhole | None | +568 | Christian County (Unincorporated Areas).
Sinkhole 2 | Flooding Due to Sinkhole | None | +546 | City of Oak Grove.
Sinkhole 20 | Flooding Due to Sinkhole | None | +539 | City of Oak Grove.
Sinkhole 20A | Flooding Due to Sinkhole | None | +522 | City of Hopkinsville.
Sinkhole 21 | Flooding Due to Sinkhole | None | +534 | City of Oak Grove.
Sinkhole 21A | Flooding Due to Sinkhole | None | +537 | Christian County (Unincorporated Areas).
Sinkhole 22 | Flooding Due to Sinkhole | None | +533 | City of Oak Grove.
Sinkhole 22A | Flooding Due to Sinkhole | None | +534 | Christian County (Unincorporated Areas).
Sinkhole 23 | Flooding Due to Sinkhole | None | +540 | City of Oak Grove.
Sinkhole 24 | Flooding Due to Sinkhole | None | +558 | City of Oak Grove.
Sinkhole 25 | Flooding Due to Sinkhole | None | +549 | City of Oak Grove.
Sinkhole 26 | Flooding Due to Sinkhole | None | +561 | City of Oak Grove.
| Flooding Due to Sinkhole | None | +561
Sinkhole 27 | Flooding Due to Sinkhole | None | +552 | City of Oak Grove.
Sinkhole 28 | Flooding Due to Sinkhole | None | +552 | City of Oak Grove.
Sinkhole 29 | Flooding Due to Sinkhole | None | +552 | City of Oak Grove.
Sinkhole 2A | Flooding Due to Sinkhole | None | +556 | Christian County (Unincorporated Areas).
Sinkhole 3 | Flooding Due to Sinkhole | None | +543 | City of Oak Grove.
Sinkhole 30 | Flooding Due to Sinkhole | None | +551 | City of Oak Grove.
Sinkhole 31 | Flooding Due to Sinkhole | None | +550 | City of Oak Grove.
Sinkhole 32 | Flooding Due to Sinkhole | None | +553 | City of Oak Grove.
Sinkhole 33 | Flooding Due to Sinkhole | None | +554 | City of Oak Grove.
Sinkhole 34 | Flooding Due to Sinkhole | None | +557 | City of Oak Grove.
Sinkhole 35 | Flooding Due to Sinkhole | None | +554 | City of Oak Grove.
Sinkhole 36 | Flooding Due to Sinkhole | None | +547 | City of Oak Grove.
Sinkhole 37 | Flooding Due to Sinkhole | None | +542 | City of Oak Grove.
Sinkhole 38 | Flooding Due to Sinkhole | None | +552 | City of Oak Grove.
Sinkhole 39 | Flooding Due to Sinkhole | None | +542 | City of Oak Grove.
Sinkhole 3A | Flooding Due to Sinkhole | None | +530 | Christian County (Unincorporated Areas).
Sinkhole 4 | Flooding Due to Sinkhole | None | +548 | City of Oak Grove.
Sinkhole 40 | Flooding Due to Sinkhole | None | +542 | City of Oak Grove.
Sinkhole 41 | Flooding Due to Sinkhole | None | +552 | City of Oak Grove.
Sinkhole 42 | Flooding Due to Sinkhole | None | +549 | City of Oak Grove.
Sinkhole 43 | Flooding Due to Sinkhole | None | +546 | City of Oak Grove, Christian County (Unincorporated Areas).
Sinkhole 44 | Flooding Due to Sinkhole | None | +560 | City of Oak Grove.
Sinkhole 45 | Flooding Due to Sinkhole | None | +564 | City of Oak Grove.
Sinkhole 46 | Flooding Due to Sinkhole | None | +563 | City of Oak Grove.
Sinkhole 47 | Flooding Due to Sinkhole | None | +541 | City of Oak Grove.
Sinkhole 48 | Flooding Due to Sinkhole | None | +556 | City of Oak Grove.
Sinkhole 49 | Flooding Due to Sinkhole | None | +560 | City of Oak Grove.
Sinkhole 4A | Flooding Due to Sinkhole | None | +537 | Christian County (Unincorporated Areas).
Sinkhole 5 | Flooding Due to Sinkhole | None | +543 | City of Oak Grove.
Sinkhole 50 | Flooding Due to Sinkhole | None | +558 | City of Oak Grove.
Sinkhole 51 | Flooding Due to Sinkhole | None | +560 | City of Oak Grove.
Sinkhole 52 | Flooding Due to Sinkhole | None | +567 | City of Oak Grove.
Sinkhole 53 | Flooding Due to Sinkhole | None | +569 | City of Oak Grove.
Sinkhole 54 | Flooding Due to Sinkhole | None | +569 | City of Oak Grove.
Sinkhole 55 | Flooding Due to Sinkhole | None | +568 | City of Oak Grove.
Sinkhole 56 | Flooding Due to Sinkhole | None | +530 | City of Oak Grove.
Sinkhole 57 | Flooding Due to Sinkhole | None | +532 | City of Oak Grove.
Sinkhole 58 | Flooding Due to Sinkhole | None | +549 | City of Oak Grove.
Sinkhole 59 | Flooding Due to Sinkhole | None | +567 | City of Oak Grove.
Sinkhole 5A | Flooding Due to Sinkhole | None | +542 | Christian County (Unincorporated Areas).
Sinkhole 6 | Flooding Due to Sinkhole | None | +549 | City of Oak Grove.
Sinkhole 60 | Flooding Due to Sinkhole | None | +558 | City of Oak Grove.
Sinkhole 61 | Flooding Due to Sinkhole | None | +584 | City of Oak Grove.
Sinkhole 62 | Flooding Due to Sinkhole | None | +590 | City of Oak Grove.
Sinkhole 66 | Flooding Due to Sinkhole | None | +501 | City of Oak Grove, Christian County (Unincorporated Areas).
Sinkhole 67 | Flooding Due to Sinkhole | None | +507 | City of Oak Grove, Christian County (Unincorporated Areas).
Sinkhole 68 | Flooding Due to Sinkhole | None | +504 | City of Oak Grove, Christian County (Unincorporated Areas).
Sinkhole 69 | Flooding Due to Sinkhole | None | +509 | City of Oak Grove.
Sinkhole 6A | Flooding Due to Sinkhole | None | +557 | Christian County (Unincorporated Areas), City of Hopkinsville.
Sinkhole 7 | Flooding Due to Sinkhole | None | +554 | City of Oak Grove.
| Flooding Due to Sinkhole | None | +554
Sinkhole 70 | Flooding Due to Sinkhole | None | +512 | City of Oak Grove.
Sinkhole 73 | Flooding Due to Sinkhole | None | +568 | City of Oak Grove.
Sinkhole 74 | Flooding Due to Sinkhole | None | +580 | City of Oak Grove.
Sinkhole 75 | Flooding Due to Sinkhole | None | +577 | City of Oak Grove.
Sinkhole 76 | Flooding Due to Sinkhole | None | +544 | City of Oak Grove.
Sinkhole 77 | Flooding Due to Sinkhole | None | +537 | City of Oak Grove.
Sinkhole 78 | Flooding Due to Sinkhole | None | +560 | Christian County (Unincorporated Areas).
Sinkhole 79 | Flooding Due to Sinkhole | None | +577 | Christian County (Unincorporated Areas).
Sinkhole 7A | Flooding Due to Sinkhole | None | +563 | Christian County (Unincorporated Areas).
Sinkhole 8 | Flooding Due to Sinkhole | None | +553 | City of Oak Grove.
Sinkhole 80 | Flooding Due to Sinkhole | None | +555 | City of Oak Grove.
Sinkhole 81 | Flooding Due to Sinkhole | None | +526 | Christian County (Unincorporated Areas).
Sinkhole 82 | Flooding Due to Sinkhole | None | +474 | City of Oak Grove, Christian County (Unincorporated Areas).
Sinkhole 83 | Flooding Due to Sinkhole | None | +533 | City of Oak Grove.
Sinkhole 84 | Flooding Due to Sinkhole | None | +536 | City of Oak Grove.
Sinkhole 85 | Flooding Due to Sinkhole | None | +537 | City of Oak Grove.
Sinkhole 86 | Flooding Due to Sinkhole | None | +538 | City of Oak Grove.
Sinkhole 87 | Flooding Due to Sinkhole | None | +534 | City of Oak Grove.
Sinkhole 88 | Flooding Due to Sinkhole | None | +543 | City of Oak Grove.
Sinkhole 89 | Flooding Due to Sinkhole | None | +541 | City of Oak Grove.
Sinkhole 8A | Flooding Due to Sinkhole | None | +563 | City of Oak Grove.
Sinkhole 9 | Flooding Due to Sinkhole | None | +547 | City of Oak Grove.
Sinkhole 90 | Flooding Due to Sinkhole | None | +539 | City of Oak Grove.
Sinkhole 91 | Flooding Due to Sinkhole | None | +543 | City of Oak Grove.
Sinkhole 92 | Flooding Due to Sinkhole | None | +544 | City of Oak Grove.
Sinkhole 93 | Flooding Due to Sinkhole | None | +541 | City of Oak Grove.
Sinkhole 94 | Flooding Due to Sinkhole | None | +547 | City of Oak Grove.
Sinkhole 95 | Flooding Due to Sinkhole | None | +541 | City of Oak Grove.
Sinkhole 96 | Flooding Due to Sinkhole | None | +550 | City of Oak Grove.
Sinkhole 9A | Flooding Due to Sinkhole | None | +537 | City of Hopkinsville.
Sinkhole I-24 | Flooding Due to Sinkhole | None | +561 | City of Oak Grove, Christian County (Unincorporated Areas).
Sinkhole Main Sink | Flooding Due to Sinkhole | None | +529 | City of Oak Grove, Christian County (Unincorporated Areas).
Sinkhole NF | Flooding Due to Sinkhole | None | +522 | City of Hopkinsville.
Sinkhole North West | Flooding Due to Sinkhole | None | +569 | City of Oak Grove.
Sinkhole South West | Flooding Due to Sinkhole | None | +530 | City of Oak Grove, Christian County (Unincorporated Areas).
South Fork Little River | At confluence with Little River and North Fork Little River | None | +505 | City of Hopkinsville, Christian County (Unincorporated Areas).
| Approximately 680 feet downstream of Dr. Martin Luther King Jr. Way | None | +541
South Fork Little River Tributary | Approximately 150 feet downstream of Dr. Martin Luther King Jr. Way | None | +537 | City of Hopkinsville, Christian County (Unincorporated Areas).
| Approximately 780 feet upstream of Harry Berry Lane | None | +557
White Creek | At confluence with Little River and North Fork Little River | None | +533 | City of Hopkinsville, Christian County (Unincorporated Areas).
| Approximately 170 feet upstream of Madisonville Road | None | +540
* National Geodetic Vertical Datum.
+ North American Vertical Datum.
# Depth in feet above ground.
ADDRESSES
City of Hopkinsville
Maps are available for inspection at 101 North Main Street, Hopkinsville, KY 42240.
Send comments to The Honorable J. Daniel Kemp, Mayor, City of Hopkinsville, 101 North Main Street, Hopkinsville, KY 42240.
City of Oak Grove
Maps are available for inspection at 8505 Pembroke Oak Grove Road, Oak Grove, KY 42262.
Send comments to The Honorable Daniel Potter, Mayor, City of Oak Grove, 8505 Pembroke Oak Grove Road, Oak Grove, KY 42262.
Pembroke
Maps are available for inspection at 101 North Main Street, Hopkinsville, KY 42240.
Send comments to The Honorable Fred Shelton, Mayor, City of Pembroke, 222 South Main Street, Pembroke, KY 42266.
Christian County (Unincorporated Areas)
Maps are available for inspection at 101 North Main Street, Hopkinsville, KY 42240.
Send comments to The Honorable Steve Tribble, Christian County Judge Executive, 515 Weber Street, Hopkinsville, KY 42240.
Lincoln Parish, Louisiana, and Incorporated Areas
Choudrant Creek | Confluence with Choudrant Creek Trib. 3 | None | +136 | Lincoln Parish (Unincorporated Areas).
| Approximately 1550 Feet from upstream of confluence with Choudrant creek trib. 6 | None | +185
Tributary 6 | Confluence with Choudrant Creek | None | +185 | Lincoln Parish (Unincorporated Areas).
| Approximately 1250 feet upstream of confluence with Choudrant Creek trib.6.1 | None | +215
Colvin Creek | Confluence with Cypress Creek | None | +120 | Lincoln Parish (Unincorporated Areas), Town of Vienna.
| Approximately 2,080 feet upstream of confluence with Colvin Creek Tributary 3 | None | +182
Tributary 2 | Confluence with Colvin Creek | None | +167 | Lincoln Parish (Unincorporated Areas).
| Approximately 905 feet upstream of Frazier Road | None | +188
Cypress Creek | Confluence with Cypress Creek tributary 8 | None | +161 | Lincoln Parish (Unincorporated Areas), Town of Vienna.
| Confluence with Cypress Creek Tributary 15 | None | +206
Madden Creek Tributary 5 | Approximately 320 feet Upstream of 2nd street | None | +286 | Village of Simsboro.
| Confluence with Madden Creek | None | +301
Redwine Creek | Approximately 4410 feet upstream of Facilities/agriculture drive | None | +231 | Village of Grambling, Lincoln Parish (Unincorporated Areas).
| Confluence with Redwine Creek Tributary 6 | None | +286
Tributary 6 | Confluence with Redwine Creek | None | +286 | Village of Grambling.
| Approximately 1100 feet upstream of Cornwell Dr | None | +311
* National Geodetic Vertical Datum.
+ North American Vertical Datum.
# Depth in feet above ground.
ADDRESSES
Town of Vienna
Maps are available for inspection at 5168 Highway 167, Ruston, LA 71270.
Send comments to The Honorable Randy Graham, Mayor, P.O. Box 980, Ruston, LA 71273.
Lincoln Parish (Unincorporated Areas)
Maps are available for inspection at 100 West Texas Avenue, Ruston, LA 71270.
Send comments to Dennis Woodward, Parish Administrator and FPA, P.O. Box 979, Ruston, LA 71273.
Village of Grambling
Maps are available for inspection at 2045 Martin Luther King Jr. Ave., Grambling, LA 71245.
Send comments to The Honorable Martha Andrus, Mayor, PO Box 108, Grambling, LA 71245.
Village of Simsboro
Maps are available for inspection at 2742 Martha St., Simsboro, LA 71275.
Send comments to The Honorable Willie Hendricks, Mayor, PO Box 40, Simsboro, LA 71275.
Livingston County, Michigan, and Incorporated Areas
Bogue Creek | Approximately 1,200 feet upstream of confluence of South Branch Shiawassee River | None | +842 | Township of Cohoctah, Township of Howell, Township of Oceola.
| Approximately 2 miles upstream of Curdy Road | None | +885 |
Conway Drain No. 1 | Downstream side of W Allen Road | None | +880 | Township of Conway.
| Upstream side of Sherwood Road | None | +885
Fonda Lake | Entire shoreline of Fonda Lake | None | +898 | Township of Brighton.
Halfmoon Lake | Entire shoreline of Halfmoon Lake | None | +885 | Township of Unadilla.
Handy Drain No. 5 | Approximately 1,600 feet upstream of Converse Road | None | +880 | Township of Handy.
| Approximately 90 feet downstream side of I-96 (East Bound) | None | +893 |
Handy Iosco Drain No. 1 | Approximately 1,100 feet downstream of Layton Road | None | +888 | Township of Handy, Township of Howell, Township of Iosco.
| Upstream side of Mason Road | None | +907 |
Island Lake | Entire shoreline of Island Lake | None | +889 | Township of Brighton.
Marion and Genoa Drain | Approximately 525 feet upstream of confluence of South Branch Shiawassee River | None | +882 | Township of Marion, City of Howell, Township of Genoa.
| Approximately 80 feet upstream of Beck Road | None | +913 |
Middle Branch Red Cedar River | Approximately 1,200 feet upstream of the confluence of Red Cedar River | None | +886 | Township of Handy, Township of Iosco
| Upstream side of W Coon Lake Road. | None | +894 |
Mirror Lake | Entire Shoreline of Mirror Lake | None | +901 | Township of Green Oak.
Patterson Lake | Entire shoreline of Patterson Lake | None | +886 | Township of Unadilla.
Portage Lake | Entire shoreline of Portage Lake | None | +852 | Township of Hamburg.
Red Cedar River | Approximately 150 feet downstream of N Nicholson Road | None | +880 | Township of Conway, Township of Handy, Township of Howell, Township of Marion, Village of Fowlerville.
| Approximately 90 feet upstream of W Coon Lake Road | None | +934 |
South Branch Shiawassee River | Approximately 280 feet downstream of Oak Grove Road | None | +850 | Township of Cohoctah, Township of Howell.
| Approximately 0.7 mile downstream of Bowen Road | None | +864 |
Thompson Lake | Entire shoreline of Thompson Lake | None | +907 | Township of Oceola.
Tributary to North Ore Creek | Approximately 1,400 feet upstream of Clyde Road | None | +911 | Township of Hartland, Township of Oceola.
| Upstream side of N Hacker Road | None | +1002
Tributary to Red Cedar River | Confluence of Red Cedar River and Tributary to Red Cedar River | +884 | +883 | Village of Fowlerville, Township of Handy.
| Approximately 1,650 feet upstream of Pinewood Drive | None | +899 |
West Branch Red Cedar River | Approximately 1,100 feet downstream of Renee Court | None | +878 | Township of Conway, Township of Handy.
| Approximately 400 feet downstream of I-96 Westbound | None | +881 |
Woodland Lake | Entire shoreline of Woodland Lake | None | +936 | Township of Brighton.
* National Geodetic Vertical Datum.
+ North American Vertical Datum.
# Depth in feet above ground.
ADDRESSES
City of Brighton
Maps are available for inspection at 200 N. First Street, Brighton, MI 48116.
Send comments to The Honorable Steve Monet, City of Brighton, 200 N. First Street, Brighton, MI 48116.
Township of Cohoctah
Maps are available for inspection at 10518 Antcliff Road, Fowlerville, MI 48836.
Send comments to Mark Fosdick, Supervisor, Township of Cohoctah, 9989 N. Fleming Road, Fowlerville, MI 48836.
Township of Conway
Maps are available for inspection at 8015 N. Fowlerville Road, Fowlerville, MI 48836.
Send comments to Michael B. Rife, Supervisor, Township of Conway, PO Box 1157, 8015 N. Fowlerville Road, Fowlerville, MI 48836.
Township of Deerfield
Maps are available for inspection at 4492 Center Road, Linden, MI 48451.
Send comments to Thomas Green, Supervisor, Township of Deerfield, 4492 Center Road, Linden, MI 48451.
Township of Genoa
Maps are available for inspection at 2911 Dorr Road, Brighton, MI 48116.
Send comments to Gary McCririe, Supervisor, Township of Genoa, 2911 Dorr Road, Brighton, MI 48116.
Township of Green Oak
Maps are available for inspection at 1001 Silver Lake Road, Brighton, MI 48116-8361.
Send comments to Mark St. Charles, Supervisor, Township of Green Oak, 1001 Silver Lake Road, Brighton, MI 48116-8361.
Township of Hamburg
Maps are available for inspection at 10405 Merrill Road, Whitmore Lake, MI 48189.
Send comments to Cindy Pine, Supervisor, Township of Hamburg, 10405 Merrill Road, Whitmore Lake, MI 48189.
Township of Handy
Maps are available for inspection at 136 N. Grand Avenue, Fowlerville, MI 48836.
Send comments to Cynthia Denby, Supervisor, Township of Handy, PO Box 189, 135 N. Grand Avenue, Fowlerville, MI 48836.
Township of Hartland
Maps are available for inspection at 3191 Hartland Road, Hartland, MI 48353.
Send comments to Don Rhodes, Supervisor, Township of Hartland, 3191 Hartland Road, Hartland, MI 48353.
Township of Howell
Maps are available for inspection at 3525 Byron Road, Howell, MI 48855.
Send comments to Maureen Heikkinen, Supervisor, Township of Howell, 3525 Byron Road, Howell, MI 48855.
Township of Iosco
Maps are available for inspection at 2050 Bradley Road, Webberville, MI 48892.
Send comments to William C. Miller, Supervisor, Township of Iosco, P.O. Box 1079, Webberville, MI 48892.
Township of Marion
Maps are available for inspection at 2877 W. Coon Lake Road, Howell, MI 48843.
Send comments to Robert Hanvey, Supervisor, Township of Marion, 2877 W. Coon Lake Road, Howell, MI 48843.
Township of Oceola
Maps are available for inspection at 1577 N. Latson Road, Howell, MI 48843.
Send comments to William Bamber, Supervisor, Township of Oceola, 1577 N. Latson Road, Howell, MI 48843.
Township of Putnam
Maps are available for inspection at 131 S. Howell Street, Pinckney, MI 48169.
Send comments to Ron Rau, Supervisor, Township of Putnam, P.O. Box 439, 131 S. Howell Street, Pinckney, MI 48169.
Township of Tyrone
Maps are available for inspection at 10408 Center Road, Fenton, MI 48430.
Send comments to Andrew Schmidt, Supervisor, Township of Tyrone, 10408 Center Road, Fenton, MI 48430.
Township of Unadilla
Maps are available for inspection at 126 Webb Street, Gregory, MI 48137.
Send comments to James Peterson, Supervisor, Township of Unadilla, P.O. Box 120, 126 Webb Street, Gregory, MI 48137.
Village of Fowlerville
Maps are available for inspection at 213 S. Grand Avenue, Fowlerville, MI 48836.
Send comments to Mr. Wayne Copeland, President, Village of Fowlerville, P.O. Box 677, 213 S. Grand Avenue, Fowlerville, MI 48836.
Village of Pinckney
Maps are available for inspection at 220 S. Howell Street, Pinckney, MI 48169.
Send comments to Ms. Rebecca Foster, President, Village of Pinckney, 220 S. Howell Street, Pinckney, MI 48169.
Eau Claire County, Wisconsin, and Incorporated Areas
Chippewa River | Approximately 1,800 feet upstream of county boundary | +761 | +762 | Eau Claire County (Unincorporated Areas).
| Approximately 800 feet downstream of Interstate Highway 94 | +773 | +772 |
Sherman Creek | Approximately 1,500 feet upstream of the confluence with the Chippewa River | +778 | +777 | City of Eau Claire, Eau Claire County (Unincorporated Areas).
| Approximately 1,800 feet downstream of U.S. Highway 12 | +889 | +888 |
* National Geodetic Vertical Datum.
+ North American Vertical Datum.
# Depth in feet above ground.
ADDRESSES
City of Eau Claire
Maps are available for inspection at City of Eau Claire, City Hall, 203 South Farwell Street, Eau Claire, WI 54702-5148.
Send comments to Michael Huggins, City Manager, City of Eau Claire, 203 South Farwell Street, City Hall, Third Floor, Eau Claire, WI 54702.
Eau Claire County (Unincorporated Areas)
Maps are available for inspection at Eau Claire County Courthouse, 721 Oxford Avenue, Eau Claire, WI 54703-5481.
Send comments to Bruce Willett, Chairperson, Eau Claire County Board of Supervisors, 721 Oxford Avenue, Eau Claire, WI 54703.

(Catalog of Federal Domestic Assistance No. 97.022, “Flood Insurance.”)

Dated: July 16, 2007.
David I. Maurstad,
Federal Insurance Administrator of the National Flood Insurance Program, Department of Homeland Security, Federal Emergency Management Agency.

[FR Doc. 07-3614 Filed 7-24-07; 8:45 am]

BILLING CODE 9110-12-P